DEPARTMENT OF DEFENSE

Department of the Army, Corps of Engineers

33 CFR Part 334

[Docket Number: COE-2019-0010]

Washington Channel, Fort McNair, Washington, DC; Restricted Area

AGENCY: U.S. Army Corps of Engineers, DoD.

ACTION: Proposed rule; reopening of comment period.

SUMMARY: On August 8, 2019, the U.S. Army Corps of Engineers (the Corps) published a proposed rule to establish a permanent restricted area in the Washington Channel adjacent to Fort McNair in Washington, DC. The comment period ended on September 9, 2019, and we received requests to extend the comment period. As it closed prior to the publication of this document, we are reopening the comment period. Comments previously submitted do not need to be resubmitted, as they have already been incorporated into the administrative record and will be fully considered in the Corps' decision making process for this rulemaking action.

DATES: Written comments must be submitted on or before November 5, 2019.

ADDRESSES: You may submit comments, identified by docket number COE-2019-0010, by any of the following methods:

Federal eRulemaking Portal: http://www.regulations.gov. Follow the instructions for submitting comments.

Email: david.b.olson@usace.army.mil. Include the docket number, COE-2019-0010, in the subject line of the message.

Mail: U.S. Army Corps of Engineers, Attn: CECW-CO-R (David B. Olson), 441 G Street NW, Washington, DC 20314-1000.

Hand Delivery/Courier: Due to security requirements, we cannot receive comments by hand delivery or courier.

Instructions: Instructions for submitting comments are provided in the proposed rule published on August 8, 2019 (84 FR 38893). Consideration will be given to all comments received by November 5, 2019.

FOR FURTHER INFORMATION CONTACT: Mr. David Olson, Headquarters, Operations and Regulatory Division, Washington, DC at 202-761-4922, or Mr. Steve Elinsky, Corps of Engineers, Baltimore District, Regulatory Branch, at 410-962-4503.

SUPPLEMENTARY INFORMATION: In the August 8, 2019, issue of the Federal Register (84 FR 38893), the Corps published a proposed rule for establishing a permanent restricted area in the Washington Channel adjacent to Fort McNair. Fort McNair is the headquarters of the Army's Military District of Washington and home of the National Defense University as well as the official residence of the U.S. Army's Vice Chief of Staff. Fort McNair requested the restricted area to fulfill Joint Base Myer-Henderson Hall (JBM-HH) security needs including HMX missions and security needs at Fort McNair including protection of VIP quarters. The restricted area is also needed to protect public health by preventing vessels from disturbing a planned environmental remediation area located near Fort McNair.

We have received requests for an extension of the comment period for the proposed rule. The Corps finds a longer comment period is warranted. Therefore, the comment period for this proposed rule is reopened until November 5, 2019.

Dated: September 6, 2019.
Thomas P. Smith,
Chief, Operations and Regulatory Division, Directorate of Civil Works.

[FR Doc. 2019-19735 Filed 9-11-19; 8:45 am]

BILLING CODE 3720-58-P